DEPARTMENT OF COMMERCE

Foreign-Trade Zones Board

[Order No. 1884]

Expansion of Foreign-Trade Zone 49 Newark/Elizabeth, New Jersey

Pursuant to its authority under the Foreign-Trade Zones Act of June 18, 1934, as amended (19 U.S.C. 81a-81u), the Foreign-Trade Zones Board (the Board) adopts the following Order:

Whereas, the Port Authority of New York and New Jersey, grantee of Foreign-Trade Zone 49, submitted an application to the Board for authority to expand FTZ 49, to add a new site (Site 13) in the Newark/Elizabeth, New Jersey, area within the New York/Newark Customs and Border Protection port of entry (FTZ Docket 78-2011, filed 12/07/11);

Whereas, notice inviting public comment has been given in the Federal Register (76 FR 77770, 12/14/11) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 49 is approved, subject to the FTZ Act and the Board's regulations, including Section 400.13, to the Board's standard 2,000-acre activation limit, and to a sunset provision that would terminate authority on February 28, 2018 for Site 13 if no activity has occurred under FTZ procedures before that date. Existing Sites 1-6 would also be subject to a sunset provision that would terminate authority where no activity has occurred under FTZ procedures by February 28, 2018.

Signed at Washington, DC, this 6th day of February 2013.
Paul Piquado,
Assistant Secretary of Commerce for Import Administration, Alternate Chairman, Foreign-Trade Zones Board.

Attest:

Andrew McGilvray,
Executive Secretary.

[FR Doc. 2013-04269 Filed 2-22-13; 8:45 am]

BILLING CODE P